MISSISSIPPI RIVER COMMISSION

Sunshine Act Meetings

AGENCY: Mississippi River Commission.

TIME AND DATE: 9 a.m., 14 August, 2015.

PLACE: On board MISSISSIPPI V at City Front, Cape Girardeau, Missouri

STATUS: Open to the public.

MATTERS TO BE CONSIDERED: (1) Presentations by local organizations and members of the public giving views or comments on any issue affecting the programs or projects of the Commission and the Corps of Engineers; (2) District Commander's overview of current project issues within the St. Louis and Memphis Districts; and (3) Summary report by President of the Commission on national and regional issues affecting the U.S. Army Corps of Engineers and Commission programs and projects on the Mississippi River and its tributaries.

TIME AND DATE: 9 a.m., August 17, 2015.

PLACE: On board MISSISSIPPI V at Mud Island Landing, Memphis, Tennessee

STATUS: Open to the public.

MATTERS TO BE CONSIDERED: (1) Presentations by local organizations and members of the public giving views or comments on any issue affecting the programs or projects of the Commission and the Corps of Engineers; (2) District Commander's overview of current project issues within the Memphis District; and (3) Summary report by President of the Commission on national and regional issues affecting the U.S. Army Corps of Engineers and Commission programs and projects on the Mississippi River and its tributaries.

TIME AND DATE: 9 a.m., August 19, 2015.

PLACE: On board MISSISSIPPI V at Lake Village, Arkansas (Boat Ramp at Old Greenville Bridge)

STATUS: Open to the public.

MATTERS TO BE CONSIDERED: (1) Presentations by local organizations and members of the public giving views or comments on any issue affecting the programs or projects of the Commission and the Corps of Engineers; (2) District Commander's overview of current project issues within the Vicksburg District; and (3) Summary report by President of the Commission on national and regional issues affecting the U.S. Army Corps of Engineers and Commission programs and projects on the Mississippi River and its tributaries.

TIME AND DATE: 9 a.m., August 21, 2015.

PLACE: On board MISSISSIPPI V at City Dock above the USS Kidd in Baton Rouge, Louisiana

STATUS: Open to the public.

MATTERS TO BE CONSIDERED: (1) Presentations by local organizations and members of the public giving views or comments on any issue affecting the programs or projects of the Commission and the Corps of Engineers; (2) District Commander's overview of current project issues within the New Orleans District; and (3) Summary report by President of the Commission on national and regional issues affecting the U.S. Army Corps of Engineers and Commission programs and projects on the Mississippi River and its tributaries.

FOR FURTHER INFORMATION CONTACT: Mr. Timothy S. Gambrell, telephone 601-634-5766.

Brenda S. Bowen,
Army Federal Register Liaison Officer.

[FR Doc. 2015-18509 Filed 7-23-15; 4:15 pm]

BILLING CODE 3720-58-P